DEPARTMENT OF COMMERCE

National Oceanic and Atmospheric Administration

Hydrographic Services Review Panel Charter Renewal

AGENCY: National Ocean Service, National Oceanic and Atmospheric Administration (NOAA), Department of Commerce.

ACTION: Notice of Hydrographic Services Review Panel Charter Renewal.

SUMMARY: The charter for NOAA's Hydrographic Services Review Panel, a Federal Advisory Panel, has been renewed. The charter is available for review on the following Web site: http://www.nauticalcharts.noaa.gov/ocs/hsrp/charter.htm.

DATE AND TIME: No comments are solicited through this notice.

FOR FURTHER INFORMATION CONTACT: Rebecca Arenson, Office of Coast Survey, National Ocean Service (NOS), NOAA (N/CS), 1315 East West Highway, Silver Spring, Maryland, 20910; Telephone: 301-713-2780 x158, Fax: 301-713-4019; E-mail: Rebecca.Arenson@noaa.gov.

SUPPLEMENTARY INFORMATION: The charter for NOAA's Hydrographic Services Review Panel has been renewed. The charter is available for review on the following Web site: http://www.nauticalcharts.noaa.gov/ocs/hsrp/charter.htm.

The charter has been renewed in accordance with the Federal Advisory Committee Act, 5 U.S.C. (as amended), Section 14(b)(1)(2) which states, “Any advisory committee established by an Act of Congress shall file a charter in accordance with such section upon the expiration of each successive two-year period following the date of enactment of the Act establishing such advisory committee.”

Dated: August 19, 2009.
Steven Barnum,
Director, Office of Coast Survey, National Ocean Service, National Oceanic and Atmospheric Administration.

[FR Doc. E9-22324 Filed 9-15-09; 8:45 am]

BILLING CODE 3510-JE-P